DEPARTMENT OF JUSTICE

Antitrust Division

Notice Pursuant to the National Cooperative Research and Production Act of 1993—Oasis Open

Notice is hereby given that, on September 20, 2004, pursuant to section 6(a) of the National Cooperative Research and Production Act of 1993, 15 U.S.C. 4301 et seq. (“the Act”), OASIS Open (“OASIS”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: OASIS Open, Billerica, MA. The nature and scope of OASIS' standards development activities are: To advance the development, adoption, application, and implementation of structured information standards. The consortium produces standards for Web services, security, e-business, law and government, supply chain, computing resource management, document-centric applications, XML processing, conformance and interoperability, and industry domains.

Dorothy B. Fountain,
Deputy Director of Operations, Antitrust Division.

[FR Doc. 04-25832 Filed 11-19-04; 8:45 am]

BILLING CODE 4410-11-M